DEPARTMENT OF VETERANS AFFAIRS

Health Services Research and Development Service Scientific Merit Review Board; Notice of Meeting

The Department of Veterans Affairs (VA) gives notice under the Federal Advisory Committee Act that the Health Services Research and Development Service Scientific Merit Review Board will conduct an in-person and teleconference meeting of its Centers of Innovation (COINs) review on the dates below from 8:00 a.m. to approximately 4:30 p.m. (unless otherwise listed) at the Academy Health, 1666 K Street NW, Washington, DC 20006 (unless otherwise listed).

• HCN 1—Centers of Innovation (COINs) on June 14-15, 2018.

The purpose of the Board is to review health services research and development applications of the COINs research program that provides infrastructure support for the development of innovations in research, partnerships with program offices, collaboration with other researchers nationally, and mentorship of researchers as necessary to achieve the maximum possible impact on Veterans Health Administration (VHA) policies, health care practices, and health outcomes for veterans. A unique feature of the COINs is that they include one or more focused areas of research that collectively address questions of significance to VHA clinical and operational partners who will be engaged in the research activities of the COINs.

Applications are reviewed for scientific merit, infrastructural capacity, management capabilities and VA mission relevance. Recommendations regarding funding are submitted to the Chief Research and Development Officer. The subcommittee meeting of the Board will be open to the public at the start of the meeting on the first day, June 14 and June 15, 2018 for approximately one half-hour from 8:00 a.m. to 8:30 a.m. to cover administrative matters and to discuss the general status of the program. Members of the public who wish to attend the open portion of the subcommittee meeting may dial 1 (800) 767-1750, participant code 10443#.

The remaining portion of the subcommittee meeting will be closed for the discussion, examination, reference to, and oral review. During the closed portion of the meeting, discussion and recommendations will include qualifications of the personnel conducting the studies (the disclosure of which would constitute a clearly unwarranted invasion of personal privacy), as well as research information (the premature disclosure of which would likely compromise significantly the implementation of proposed agency action regarding proprietary research projects). As provided by subsection 10(d) of Public Law 92-463, as amended by Public Law 94-409, closing the meeting is in accordance with 5 U.S.C. 552b(c)(6) and (9)(B).

No oral or written comments will be accepted from the public for either portion of the meetings. Those who plan to participate during the open portion of the subcommittee meeting should contact Ms. Liza Catucci, Administrative Officer, Department of Veterans Affairs, Health Services Research and Development Service (10P9H), 810 Vermont Avenue NW, Washington, DC 20420, or by email at Liza.Catucci@va.gov. For further information, please call Ms. Catucci at (202) 443-5797.

Dated: May 3, 2018.
LaTonya L. Small,
Federal Advisory Committee Management Officer.

[FR Doc. 2018-09822 Filed 5-8-18; 8:45 am]

BILLING CODE P